DEPARTMENT OF EDUCATION

[Docket ID ED-2023-FSA-0121]

Privacy Act of 1974; Matching Program; Correction

AGENCY: Federal Student Aid, U.S. Department of Education.

ACTION: Notice of new matching program; correction.

SUMMARY: On June 29, 2023, the Department of Education (Department) published in the Federal Register a notice of a new matching program between the U.S. Department of Education (ED or Department), as the recipient agency, and the U.S. Department of Treasury (Treasury), Internal Revenue Service (IRS) as the source agency. We are correcting the Docket ID used for submitting public comments. All other information in the notice of a new matching program remains the same.

DATES: This correction is applicable July 12, 2023.

Deadline for Transmittal of Public Comments: We must receive your comments on or before July 29, 2023.

FOR FURTHER INFORMATION CONTACT: Zelma Barrett, Program and Budget Analyst, U.S. Department of Education, Federal Student Aid, Washington, DC 20202. Telephone: (202) 377-4308.

If you are deaf, hard of hearing, or have a speech disability and wish to access telecommunications relay services, please dial 7-1-1.

SUPPLEMENTARY INFORMATION: On June 29, 2023, we published the notice of a new computer matching program in the Federal Register (88 FR 42052) with a Docket ID of [ED-2020-FSA-0145]. We are correcting the notice to reflect the correct Docket ID [ED-2023-FSA-0121].

Other than correcting the Docket ID, all other information in the notice remain the same.

Correction

In FR Doc. 2023-13846, appearing on page 42052 of the Federal Register of June 29, 2023 (88 FR 42052), we make the following correction:

On page 42052, in the first column, below the heading “DEPARTMENT OF EDUCATION”, remove “[Docket ID ED-2020-FSA-0145]” and add, in its place, “[Docket ID ED-2023-FSA-0121]”.

Accessible Format: On request to the program contact person listed under FOR FURTHER INFORMATION CONTACT, individuals with disabilities can obtain this document and the NPRM in an accessible format. The Department will provide the requestor with an accessible format that may include Rich Text Format (RTF) or text format (TXT), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

[FR Doc. 2023-14766 Filed 7-11-23; 8:45 am]

BILLING CODE 4000-01-P